DEPARTMENT OF TRANSPORTATION

Office of the Secretary

Meeting of the Transportation Labor-Management Board

AGENCY: Office of the Secretary, Department of Transportation.

ACTION: Notice of meeting.

SUMMARY: The U.S. Department of Transportation (DOT) announces a meeting of the Transportation Labor-Management Board (Board). Notice of the meeting is required under the Federal Advisory Committee Act.

Time and Place: The Board will meet on Wednesday, March 26, 2003, at 9 a.m., at the U.S. Department of Transportation, Nassif Building, room 7418, 400 Seventh Street, SW., Washington, DC 20590. The room is located on the 7th floor.

Type of Meeting: The meeting is open to the public. Please note that visitors without a government identification badge should enter the Nassif Building at the Southwest lobby, for clearance at the Visitor's Desk. Seating will be available on a first-come, first-served basis. Handicapped individuals wishing to attend should contact DOT to obtain appropriate accommodations.

Point of Contact: Stephen Gomez, U.S. Department of Transportation, Office of the Secretary, Workforce Environment and Pay Division, M-13, Nassif Building, 400 Seventh Street, SW., room 7411, Washington, DC 20590, (202) 366-9455.

SUPPLEMENTARY INFORMATION: The purpose of this meeting is to determine the issues the Board will address, establish priorities, and review the revised Transportation Labor-Management Board Charter.

Public Participation: We invite interested persons and organizations to submit comments. Mail or deliver your comments or recommendations to Stephen Gomez at the address shown above. Comments should be received by March 18, 2003 in order to be considered at the March 26th meeting.

Issued in Washington, DC, on March 6, 2003.
For the U.S. Department of Transportation.
Linda Moody,
Associate Director, Workforce Environment and Pay Division.

[FR Doc. 03-5921 Filed 3-11-03; 8:45 am]

BILLING CODE 4910-62-P